DEPARTMENT OF AGRICULTURE

Forest Service

White River National Forest; Eagle County, CO; Berlaimont Estates Access Route EIS

AGENCY: Forest Service, USDA.

ACTION: Notice of intent to prepare an environmental impact statement.

SUMMARY: Berlaimont Estates LLC (Berlaimont) owns a 680-acre private inholding completely within the White River National Forest (WRNF) to the north of Interstate 70 in the vicinity of Edwards, Colorado. Berlaimont desires to develop the property as 19 individual residential lots. Currently, the subject property may be accessed by National Forest System Roads (NFSR) 774 and 780, which connect to the southeastern corner of the horseshoe-shaped subject property. Beyond the southeastern corner, NFSR 780 connects to the southwestern corner of the property and NFSR 783 connects to the northwestern corner and northern areas of the property from the west side. Additionally, the northern portion of the property may be accessed via NFSR 778 running up Berry Creek which connects with NFSR 783 providing access into the northern portion of the property from the east. All NFSR's in this area are currently low development, native surfaced roads.

Berlaimont has applied for an easement to construct, improve, utilize, and maintain road segments across the National Forest System (NFS) lands in support of their desired development of their property. Specifically, Berlaimont is proposing to improve segments of the existing NFSR 774 and NFSR 780, as well as construct a new road segment across additional NFS lands in order to more directly access the northern portion of their property. Their proposed improvements would consist of constructing a paved asphalt road with a gravel shoulder, vehicle turnouts, retaining walls, traffic signs, guardrails, erosion control facilities, and drainage facilities. The Forest Service will be analyzing this proposal along with a wider range of potential alternatives.

DATES: Comments concerning the scope of the analysis must be received by November 7, 2016. The draft environmental impact statement is expected to be available for public review March 2017 and the final environmental impact statement is expected June 2017.

ADDRESSES: Send written comments to Scott Fitzwilliams, Forest Supervisor,c/o Matt Klein, Realty Specialist, White River National Forest, P.O. Box 190, Minturn, CO 81645. Comments may also be sent via email to matthewklein@fs.fed.us (include “Berlaimont Estate Access Route EIS” in the subject line), electronically at https://cara.ecosystem-management.org/Public//CommentInput?Project=50041, or via facsimile to (970) 827-9343.

All comments, including names and addresses when provided, are placed in the record and are available for public inspection and copying. The public may inspect comments received at the Holy Cross Ranger Station, 24747 U.S. Highway 24, Minturn, CO 81645. Visitors are encouraged to call ahead to (970) 827-5715 to facilitate entry into the building.

FOR FURTHER INFORMATION CONTACT: Additional information related to the project can be obtained from the project Web page: http://www.fs.fed.us/nepa/nepa_project_exp.php?project=50041 or by contacting Matt Klein, Realty Specialist, Eagle/Holy Cross Ranger District, 24747 U.S. Hwy 24, P.O. Box 190, Minturn, Colorado 81645. Mr. Klein can be reached by phone at (970) 827-5182 or by email at matthewklein@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed project is to provide an improved road to Berlaimont's private property.

The Alaska National Interest Lands Conservation Act (ANILCA) directs the Forest Service to provide adequate access to inholdings fully contained within national forest lands. The need for the proposed project is that Berlaimont desires to develop single family residences on their property. The current maintenance level and condition of the existing NSFRs are not at the level desired by Berlaimont to meet their full objectives. Determination of the level of adequate access under ANILCA is not done through a NEPA analysis; however, the effects of issuing an easement to provide adequate access do need to be analyzed. The level of use and development granted through a Record of Decision may equal or exceed the level that shall be identified through the separate ANILCA determination.

Proposed Action

The Proposed Action is to grant an easement to Berlaimont to improve, utilize, and maintain segments of the existing NFSR 774 and NFSR 780, to the southeastern corner of the property only.

Amendment to the WRNF Land and Resource Management Plan—For this project, a Forest Plan amendment may be necessary because the proposed action and some possible alternatives may not be consistent with the prescribed standards and guidelines for Management Area 5.41 (Deer and Elk Winter Range).

Possible Alternatives

An alternative will also be analyzed that includes the proposed action with the addition of constructing, utilizing, and maintaining a new road segment across NFS lands in order to access the northern portion of the property. Further alternatives may include improving other sections of NFSR's 780, 783 or 778 to the northern portion of the property.

Responsible Official

The Responsible Official is Mr. Scott Fitzwilliams, Forest Supervisor, c/o Matt Klein, Realty Specialist, White River National Forest, P.O. Box 190, Minturn, CO 81645.

Nature of Decision To Be Made

Based on the analysis that will be documented in the forthcoming EIS, the Responsible Official will decide whether or not to implement, in whole or in part, the Proposed Action or another alternative that may be developed by the Forest Service as a result of scoping.

Preliminary Issues

The proposed road improvement may have an impact on:

Wildlife—The area of NFS lands surrounding the property is identified in the WRNF's Land and Resource Management Plan as deer and elk winter range managed to provide adequate amounts of quality forage, cover and solitude.

Visual Resource Management—Each alternative road alignment and degree of improvement (streetlamps, for example) may affect the visual aesthetics of the north Edwards viewshed from either the valley floor or the north-facing hillsides on the opposite side of the valley.

Soils—Road design and construction could present both short-term (construction) and long-term (operation and use) effects on soil stability and erosion prevention.

Water Quailty—As with the potential soil impacts described above, road construction and use could alter runoff patterns for stormwater and snowmelt in such a way as to potentially effect water quality of nearby creeks and streams through sedimentation and turbidity or the introduction of foreign chemicals.

Outdoor Recreation/Public Access—NFSR 774 is a popular route with the public for accessing the Red and White Mountain area. This route is a point of entry for a multitude of recreational activities, including hiking, mountain biking, wildlife viewing, OHV riding, hunting, and snowmobile riding. NFSR's 778, 780 and 783 provide public access into the areas completely surrounding Berlaimont's private land. Use of any of these routes by Berlaimont residents and guests could increase user conflicts with WRNF visitors. Phyiscal improvments to the roadway could be benficial to some types of recreational activities, while simultaneously having a determential effect on others.

Grazing—The NFS lands surrounding the subject property are currently used as an active grazing allotment for up to 2,900 sheep.

Permits or Licenses Required

This Proposed Action considers the issuance of a road easement from the Forest Service to Berlaimont under the authority of the Federal Land Policy and Management Act of 1976 (FLPMA).

Scoping Process

This Notice of Intent initiates the scoping process, which guides the development of the Environmental Impact Statement (EIS). The Forest Service is soliciting comments from Federal, State and local agencies and other individuals or organizations that may be interested in or affected by implementation of the proposed project. Public questions and comments regarding this proposal are an integral part of this environmental analysis process. Input provided by interested and/or affected individuals, organizations and governmental agencies will be used to identify alternative actions and resource issues that will be analyzed in the EIS. The Forest Service will identify significant issues raised during the scoping process, and use them to formulate alternatives, prescribe mitigation measures and project design features, or analyze environmental effects.

A public open house meeting was held on Wednesday, September 7th, 2016 in Edwards, CO to inform the public and help to shape this proposal.

It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered, however those comments will not provide the commenter with standing to appeal the subsequent decision.

There will be an additional opportunity to comment when the Notice of Availability of the Draft EIS is published in the Federal Register. It is anticipated that another public meeting will be held at that time to discuss the Draft EIS. For objection eligibility, each individual or representative from each entity submitting written comments must either sign the comment or verify identity upon request. Individuals and organizations wishing to be eligible to object must meet the information requirements in 36 CFR 218.25(a)(3).

Dated: September 19, 2016.
Scott Fitzwilliams,
Forest Supervisor.

[FR Doc. 2016-22924 Filed 9-22-16; 8:45 am]

BILLING CODE 3411-15-P